DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 13, 2011. If you anticipate difficulty in submitting comments within that period, contact the person listed below as soon as possible.

ADDRESSES: Written comments may be sent to DOE Desk Officer, Office of Information and Regulatory Affairs, Office of Management and Budget, New Executive Office Building, Room 10102, 725 17th Street, NW., Washington, DC 20503; and Keith Dennis, EE-2K, U.S. Department of Energy, 1000 Independence Ave., SW., Washington, DC 20585, Fax #: (202) 287-7145, Keith.Dennis@ee.doe.gov.

SUPPLEMENTARY INFORMATION: This information collection request contains: (1) OMB No. 1910-5156; (2) Information Collection Request Title: Utility Billing; (3) Type of Request: Extension of Emergency ICR; (4) Purpose: The Authorization form will allow an evaluator specified by DOE to obtain grantee project site's energy usage and cost (electricity and natural gas). The purpose of the information collection is to estimate the direct impacts on energy and cost savings of energy efficiency programs; (5) Annual Estimated Number of Respondents: 60,629; (6) Annual Estimated Number of Total Responses: 60,629; (7) Annual Estimated Number of Burden Hours: 29,998; (8) Annual Estimated Reporting and Recordkeeping Cost Burden: $41,085.

Statutory Authority: Title IV of the Energy Conservation and Production Act of 1976 (42 U.S.C. 6861 et seq.), as amended, authorizes the DOE to administer the Weatherization Assistance Program (WAP). Title III of the Energy Policy and Conservation Act of 1975, (42 U.S.C. 6321 et seq.) as amended, authorizes DOE to administer the State Energy Program (SEP). Title V, Subtitle E of the Energy Independence and Security Act of 2007 (42 U.S.C. 17151 et seq.) authorizes DOE to administer the Energy Efficiency and Conservation Block Grant Program (EECBG).

Issued in Washington, DC, March 31, 2011.
Henry Kelly,
Acting Assistant Secretary, Energy Efficiency and Renewable Energy.

[FR Doc. 2011-8707 Filed 4-11-11; 8:45 am]

BILLING CODE 6450-01-P